DEPARTMENT OF LABOR

Occupational Safety and Health Administration

[Docket No. OSHA-2007-0042]

TUV Rheinland of North America, Inc.: Grant of Expansion of Recognition and Modification to the NRTL Program's List of Appropriate Test Standards

AGENCY: Occupational Safety and Health Administration (OSHA), Labor.

ACTION: Notice.

SUMMARY: In this notice, OSHA announces its final decision to expand the scope of recognition for TUV Rheinland of North America, Inc. as a Nationally Recognized Testing Laboratory (NRTL) and to add one new standard to the NRTL Program's List of Appropriate Test Standards.

DATES: The expansion of the scope of recognition becomes effective on January 23, 2017.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: meilinger.francis2@dol.gov.

General and technical information: Contact Mr. Kevin Robinson, Director, Office of Technical Programs and Coordination Activities, Directorate of Technical Support and Emergency Management, Occupational Safety and Health Administration, U.S. Department of Labor, 200 Constitution Avenue NW., Room N-3655, Washington, DC 20210; telephone: (202) 693-2110; email: robinson.kevin@dol.gov. OSHA's Web page includes information about the NRTL Program (see http://www.osha.gov/dts/otpca/nrtl/index.html).

SUPPLEMENTARY INFORMATION:

I. Notice of Final Decision

OSHA hereby gives notice of the expansion of the scope of recognition of TUV Rheinland of North America, Inc. (TUVRNA) as an NRTL. TUVRNA's expansion covers the addition of three recognized testing standards and two recognized testing and certification sites to its NRTL scope of recognition. Additionally, OSHA announces a modification to the NRTL Program's List of Appropriate Test Standards to include one additional test standard.

OSHA recognition of an NRTL signifies that the organization meets the requirements specified in 29 CFR 1910.7. Recognition is an acknowledgment that the organization can perform independent safety testing and certification of the specific products covered within its scope of recognition, and is not a delegation or grant of government authority. As a result of recognition, employers may use products properly approved by the NRTL to meet OSHA standards that require testing and certification.

The Agency processes applications by an NRTL for initial recognition, or for expansion or renewal of this recognition, following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages are available from the Agency's Web site at http://www.osha.gov/dts/otpca/nrtl/index.html.

TUVRNA submitted five applications, dated April 1, 2015 (OSHA-2007-0042-0016), May 6, 2015 (OSHA-2007-0042-0017), August 20, 2015 (OSHA-2007-0042-0018), December 7, 2015 (OSHA-2007-0042-0019) and March 2, 2016 (OSHA-2007-0042-0020), to expand its recognition to include three additional recognized test standards and two additional recognized sites. The two recognized testing sites are located at: TUV Rheinland Japan Ltd., Global Technology Assessment Center, 4-25-2 Kita-Yamata, Tsuzuki-ku, Yokohama, Kanagawa, 224-0021 JAPAN and TUV Rheinland LGA Products GmbH, Am Grauen Stein 29, Koln, NRW 51105 GERMANY. OSHA staff performed a detailed analysis of the applications and other pertinent information. OSHA staff also performed on-site reviews of TUV Yokohama on February 16-17, 2016, and TUV Cologne on June 9-10, 2016, and recommended expansion of TUVRNA's recognition to include these two sites. Further, OSHA staff recommended expansion of TUVRNA's recognition to include three test standards, including one OSHA has added to the NRTL Program's List of Appropriate Test Standards.

OSHA published the preliminary notice announcing TUVRNA's expansion application and modification to the NRTL Program's List of Appropriate Test Standards in the Federal Register on October 31, 2016 (81 FR 75444). The Agency requested comments by November 15, 2016, but it received no comments in response to this notice. OSHA now is proceeding with this final notice to grant expansion of TUVRNA's scope of recognition and to modify the NRTL Program's List of Appropriate Test Standards.

To obtain or review copies of all public documents pertaining to the TUVRNA's application, go to www.regulations.gov or contact the Docket Office, Occupational Safety and Health Administration, U.S. Department of Labor, 200 Constitution Avenue NW., Room N-2625, Washington, DC 20210. Docket No. OSHA-2007-0042 contains all materials in the record concerning TUVRNA's recognition.

II. Final Decision and Order

OSHA staff examined TUVRNA's expansion application, conducted a detailed on-site assessment, and examined other pertinent information. Based on its review of this evidence, OSHA finds that TUVRNA meets the requirements of 29 CFR 1910.7 for expansion of its recognition, subject to the limitations and conditions listed below. OSHA, therefore, is proceeding with this final notice to grant TUVRNA's scope of recognition. OSHA limits the expansion of TUVRNA's recognition to include the sites at TUV Cologne, Germany and TUV Yokohama, Japan as listed above. OSHA's recognition of these sites limits TUVRNA to performing product testing and certifications only to the test standards for which the site has the proper capability and programs, and for test standards in TUVRNA's scope of recognition. This limitation is consistent with the recognition that OSHA grants to other NRTLs that operate multiple sites. OSHA further limits the expansion of TUVRNA's recognition to testing and certification of products for demonstration of conformance to the test standards listed in Table 1 below.

Additionally, Table 2, below, lists the test standard new to the NRTL Program's List of Appropriate Test Standards. The Agency evaluated the standard to (1) verify it represents a product category for which OSHA requires certification by an NRTL, (2) verify the document represents an end product and not a component, and (3) verify the document defines safety test specifications (not installation or operational performance specifications). Based on this evaluation, OSHA finds that it is an appropriate test standard and has added the standard to the NRTL Program's List of Appropriate Test Standards.

Table 1—List of Appropriate Test Standards for Inclusion in TUVRNA's NRTL Scope of Recognition
Test standard | Test standard title
UL 62368-1 | Audio/video, information and technology equipment—Part 1: Safety Requirements.
UL 1004-1 | Standard for Rotating Electrical Machines—General Requirements.
UL 62109-1 * | Standard for Safety of power converters for use in photovoltaic power systems—Part 1: General requirements.
* Represents the standard that OSHA will add to the NRTL List of Appropriate Test Standards.

Table 2—Test Standard OSHA Is Adding to the NRTL Program's List of Appropriate Test Standards
Test standard | Test standard title
UL 62109-1 | Standard for Safety of power converters for use in photovoltaic power systems—Part 1: General requirements.

OSHA's recognition of any NRTL for a particular test standard is limited to equipment or materials for which OSHA standards require third-party testing and certification before using them in the workplace. Consequently, if a test standard also covers any products for which OSHA does not require such testing and certification, an NRTL's scope of recognition does not include these products.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, TUVRNA also must abide by the following conditions of the recognition:

1. TUVRNA must inform OSHA as soon as possible, in writing, of any change of ownership, facilities, or key personnel, and of any major change in its operations as an NRTL, and provide details of the change(s);

2. TUVRNA must meet all the terms of its recognition and comply with all OSHA policies pertaining to this recognition; and

3. TUVRNA must continue to meet the requirements for recognition, including all previously published conditions on TUVRNA's scope of recognition, in all areas for which it has recognition.

Pursuant to the authority in 29 CFR 1910.7, OSHA hereby expands the recognition of TUVRNA, subject to the limitations and conditions specified above.

III. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on January 11, 2017.
David Michaels,
Assistant Secretary of Labor for Occupational Safety and Health.

[FR Doc. 2017-01409 Filed 1-19-17; 8:45 am]

BILLING CODE 4510-26-P